DEPARTMENT OF COMMERCE

Census Bureau

Quarterly Survey of Residential Alterations and Repairs

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A).

DATES: Written comments must be submitted on or before August 12, 2002.

ADDRESSES: Direct all written comments to Madeleine Clayton, Departmental Paperwork Clearance Officer, Department of Commerce, Room 6608, 14th and Constitution Avenue, NW., Washington, DC 20230 (or via the Internet at Mclayton@doc.gov).

FOR FURTHER INFORMATION CONTACT: Requests for additional information or copies of the information collection instrument(s) and instructions should be directed to Joseph Huesman, U.S. Census Bureau, Room 2125 Building 4, Washington, DC 20233-6916 on (301) 457-1605.

SUPPLEMENTARY INFORMATION:

I. Abstract

The Census Bureau is the preeminent collector and provider of timely, relevant and quality data about the people and economy of the United States. Economic data are the Census Bureau's primary program commitment during nondecennial census years. The Census Bureau conducts this survey which allows us to prepare estimates of the expenditures for residential improvement and repairs. This segment of the construction industry amounted to over $150 billion in 2000. A portion of these data are collected on form SORAR-705, which is mailed quarterly to owners of rental or vacant residential properties. Since residential improvement and repairs are a large and growing economic activity, any measure of the construction industry is incomplete without inclusion of these data.

The Census Bureau uses the information to publish improvement and repair expenditures for rental or vacant properties. Data on improvement and repairs to owner-occupied properties are collected in the Consumer Expenditures Survey.

Combined published estimates are used by a variety of private businesses and trade associations for marketing studies, economic forecasts and assessments of the construction industry. They also provide all levels of government with a tool to evaluate economic policy and measure progress towards established goals. For example, the Bureau of Economic Analysis (BEA) uses the improvement statistics to develop the structures component of gross private domestic investment in the national income and product accounts.

II. Method of Collection

The universe for this survey are the owners or designated representatives of the more than 40 million rental and vacant units in the United States. A sample of these owners—i.e., those identified in the Consumer Expenditures Survey—is mailed a questionnaire to report detailed improvement and repair expenditures for their entire property. Approximately 2,800 owners are queried each quarter.

The sample design uses a rotation procedure which brings one-fourth of the sample (approximately 700 properties) into the survey each quarter and takes one-fourth out of the survey each quarter. The data collected are adjusted for unreturned or unusable forms by region and metropolitan statistical area (MSA) status. The weights are adjusted so that sample counts of renter occupied and vacant housing units agree with independently derived controls from the Current Population Survey.

III. Data

OMB Number: 0607-0130.

Form Number: SORAR-705.

Type of Review: Regular Review.

Affected Public: Individuals or households, Businesses or Other for Profit, and State or Local Governments.

Estimated Number of Respondents: 2,800.

Estimated Time Per Response: .25 hours per quarter.

Estimates Total Annual Burden Hours: 2,800.

Estimated Total Annual Cost: The cost to the respondents is estimated to be $28,000.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) or the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 6, 2002.
Madeleine Clayton,
Departmental Paperwork Clearance Officer, Office of the Chief Information Officer.

[FR Doc. 02-14660 Filed 6-10-02; 8:45 am]

BILLING CODE 3510-07-P